DEPARTMENT OF TRANSPORTATION

Federal Aviation Administration

14 CFR Part 71

[Docket No. FAA-2020-0049; Airspace Docket No. 19-AEA-11]

RIN 2120-AA66

Revocation and Amendment of Multiple Air Traffic Service (ATS) Routes in the Vicinity of Bradford, PA, and Wellsville, NY

AGENCY: Federal Aviation Administration (FAA), DOT.

ACTION: Final rule.

SUMMARY: This action amends VHF Omnidirectional Range (VOR) Federal airways V-33, V-116, V-119, V-126, V-164, V-170, V-265, V-270, and V-501 in the vicinity of Bradford, PA, and Wellsville, NY. The VOR Federal airway modifications are necessary due to the planned decommissioning of the VOR portions of the Bradford, PA, VOR/Distance Measuring Equipment (VOR/DME) and the Wellsville, NY, VOR/Tactical Air Navigation (VORTAC) navigation aids (NAVAIDs). The NAVAIDs provide navigation guidance for portions of the affected airways. These VORs are being decommissioned as part of the FAA's VOR Minimum Operational Network (MON) program.

DATES: Effective date 0901 UTC, September 10, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking (NPRM) for Docket No. FAA-2020-0049 in the Federal Register (85 FR 6115; February 4, 2020), amending VOR Federal airways V-33, V-116, V-119, V-126, V-164, V-170, V-265, V-270, and V-501 in the vicinity of Bradford, PA, and Wellsville, NY, due to the planned decommissioning of the VOR portions of the Bradford, PA, VOR/DME and the Wellsville, NY, VORTAC. Interested parties were invited to participate in this rulemaking effort by submitting written comments on the proposal. No comments were received.

Subsequent to the NPRM, the FAA published a rule for Docket No. FAA-2020-0007 in the Federal Register (85 FR 38783; June 29, 2020), amending VOR Federal airway V-119 by removing the airway segment overlying the Newcombe, KY, VORTAC between the Newcombe, KY, VORTAC and the Henderson, WV, VORTAC. That airway amendment, effective September 10, 2020, is included in this rule.

VOR Federal airways are published in paragraph 6010(a) of FAA Order 7400.11D dated August 8, 2019, and effective September 15, 2019, which is incorporated by reference in 14 CFR 71.1. The VOR Federal airways listed in this document will be subsequently published in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Differences From the Proposal

In the NPRM, the description of VOR Federal airway V-33 contained in the Proposal section included the exclusionary language, “The airspace within R-4007A and R-4007B [restricted areas] is excluded.” That exclusion language in the airway description has been unchanged since the exclusion language was added to the V-33 description in 1980 (45 FR 77418; November 24, 1980). However, R-4007A was re-designated R-4007 in 1997 and R-4007B expired in 1983. The correct restricted area reference for the exclusion language is “R-4007”.

On September 7, 1978, the FAA re-designated restricted area R-4007 as R-4007A, and temporarily established a new restricted area, R-4007B, directly above it (43 FR 28813; July 3, 1978). The purpose of R-4007B was to provide additional airspace to accommodate fighter development testing. The R-4007B designation expired on January 1, 1983. However, R-4007A was not renumbered at that time due to the possibility of future rulemaking action to re-establish the “B” area to contain other flight test projects.

Based on forecast requirements at the Patuxent River test facility, the U.S. Navy determined that there was no future need for R-4007B and requested the FAA re-designate R-4007A as R-4007. On February 26, 1998, the FAA re-designated restricted area R-4007A as R-4007 (62 FR 65359; December 12, 1997).

Therefore, this rule changes the restricted area references in the V-33 exclusion language from “R-4007A and R-4007B” to “R-4007”.

The Rule

The FAA is amending Title 14 Code of Federal Regulations (14 CFR) part 71 by modifying VOR Federal airways V-33, V-116, V-119, V-126, V-164, V-170, V-265, V-270, and V-501. The planned decommissioning of the VOR portion of the Bradford, PA, VOR/DME and Wellsville, NY, VORTAC NAVAIDs have made this action necessary. The VOR Federal airway changes are outlined below.

V-33: V-33 extends between the Harcum, VA, VORTAC and the Nottingham, MD, VORTAC; and between the Baltimore, MD, VORTAC and the Buffalo, NY, VOR/DME. The airspace within R-4007 is excluded. The airway segment overlying the Bradford, PA, VOR/DME between the Keating, PA, VORTAC and the Buffalo, NY, VOR/DME is removed. The unaffected portions of the existing airway remain as charted.

V-116: V-116 extends between the Erie, PA, VORTAC and the Sparta, NJ, VOR/DME. The airway segment overlying the Bradford, PA, VOR/DME between the Erie, PA, VORTAC and the Stonyfork, PA, VOR/DME is removed. The unaffected portions of the existing airway remain as charted.

V-119: V-119 extends between the Henderson, WV, VORTAC and the Rochester, NY, VOR/DME. The airway segment overlying the Bradford, PA, VOR/DME and the Wellsville, NY, VORTAC between the Clarion, PA, VORTAC and the Rochester, NY, VORTAC is removed. The unaffected portions of the existing airway would remain as charted.

V-126: V-126 extends between the intersection of the Peotone, IL, VORTAC 053° and Knox, IN, VOR/DME 297° radials and the intersection of the Goshen, IN, VORTAC 092° and Fort Wayne, IN, VORTAC 016° radials; and between the Erie, PA, VORTAC and the Stonyfork, PA, VOR/DME. The airway segment overlying the Wellsville, NY, VORTAC between the Erie, PA, VORTAC and the Stonyfork, PA, VOR/DME is removed. The unaffected portions of the existing airway remain as charted.

V-164: V-164 extends between the Buffalo, NY, VOR/DME and the East Texas, PA, VOR/DME. The airway segment overlying the Wellsville, NY, VORTAC between the Buffalo, NY, VOR/DME and the Stonyfork, PA, VOR/DME is removed. The unaffected portions of the existing airway remain as charted.

V-170: V-170 extends between the Devils Lake, ND, VOR/DME and the Worthington, MN, VOR/DME; between the Rochester, MN, VOR/DME and the Salem, MI, VORTAC; and between the Bradford, PA, VOR/DME and the intersection of the Andrews, MD, VORTAC 060° and Baltimore, MD, VORTAC 165° radials. The airspace within restricted area R-5802 is excluded when the restricted area is active. The airway segment overlying the Bradford, PA, VOR/DME between the Bradford, PA, VOR/DME and the Slate Run, PA, VORTAC is removed. The unaffected portions of the existing airway remain as charted.

V-265: V-265 extends between the intersection of the Washington, DC, VOR/DME 043° and Westminster, MD, VORTAC 179° radials and the Jamestown, NY, VOR/DME. The airway segment overlying the Bradford, PA, VORTAC between the Keating, PA, VORTAC and the Jamestown, NY, VOR/DME is removed. Additionally, an editorial correction changes the state abbreviation for the Keating VORTAC to “PA”. The unaffected portions of the existing airway remain as charted.

V-270: V-270 extends between the Erie, PA, VORTAC and the Boston, MA, VOR/DME. The airway segment overlying the Wellsville, NY, VORTAC between the Jamestown, NY, VOR/DME and the Elmira, NY, VOR/DME is removed. The unaffected portions of the existing airway remain as charted.

V-501: V-501 extends between the Martinsburg, WV, VORTAC and the Philipsburg, PA, VORTAC; and between the Wellsville, NY, VORTAC and the intersection of the Wellsville, NY, VORTAC 045° and Geneseo, NY, VOR/DME 091° radials. The airway segment overlying the Wellsville, NY, VORTAC between the Wellsville, NY, VORTAC and the intersection of the Wellsville, NY, VORTAC 045° and Geneseo, NY, VOR/DME 091° radials is removed. The unaffected portions of the existing airway remain as charted.

All NAVAID radials listed in the VOR Federal airway descriptions below are unchanged and stated in True degrees.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of modifying VOR Federal airways V-33, V-116, V-119, V-126, V-164, V-170, V-265, V-270, and V-501, due to the planned decommissioning of the VOR portion of the Bradford, PA, VOR/DME and Wellsville, NY, VORTAC NAVAIDs, qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 6010(a) Domestic VOR Federal Airways.

* * * * *

V-33 [Amended]

From Harcum, VA; INT Harcum 003° and Nottingham, MD, 174° radials; to Nottingham. From Baltimore, MD; INT Baltimore 004° and Harrisburg, PA, 147° radials; Harrisburg; Philipsburg, PA; to Keating, PA. The airspace within R-4007 is excluded.

* * * * *

V-116 [Amended]

From Stonyfork, PA; INT Stonyfork 098° and Wilkes-Barre, PA, 310° radials; Wilkes-Barre; INT Wilkes-Barre 084° and Sparta, NJ, 300° radials; to Sparta.

* * * * *

V-119 [Amended]

From Henderson, WV; Parkersburg, WV; INT Parkersburg 067° and Indian Head, PA, 254° radials; Indian Head; to Clarion, PA.

* * * * *

V-126 [Amended]

From INT Peotone, IL, 053° and Knox, IN, 297° radials; INT Knox 297° and Goshen, IN, 270° radials; Goshen; to INT Goshen 092° and Fort Wayne, IN, 016° radials.

* * * * *

V-164 [Amended]

From Stonyfork, PA; Williamsport, PA; INT Williamsport 129° and East Texas, PA, 315° radials; to East Texas.

* * * * *

V-170 [Amended]

From Devils Lake, ND; INT Devils Lake 187° and Jamestown, ND, 337° radials; Jamestown; Aberdeen, SD; Sioux Falls, SD; to Worthington, MN. From Rochester, MN; Nodine, MN; Dells, WI; INT Dells 097° and Badger, WI, 304° radials; Badger; INT Badger 121° and Pullman, MI, 282° radials; Pullman; to Salem, MI. From Slate Run, PA; Selinsgrove, PA; Ravine, PA; INT Ravine 125° and Modena, PA, 318° radials; Modena; Dupont, DE; INT Dupont 223° and Andrews, MD, 060° radials; to INT Andrews 060° and Baltimore, MD, 165° radials. The airspace within R-5802 is excluded when active.

* * * * *

V-265 [Amended]

From INT Washington, DC, 043° and Westminster, MD, 179° radials; Westminster; Harrisburg, PA; Philipsburg, PA; to Keating, PA.

* * * * *

V-270 [Amended]

From Erie, PA; to Jamestown, NY. From Elmira, NY; Binghamton, NY; DeLancey, NY; Chester, MA; INT Chester 091° and Boston, MA, 262° radials; to Boston.

* * * * *

V-501 [Amended]

From Martinsburg, WV; Hagerstown, MD; St Thomas, PA; to Philipsburg, PA.

* * * * *

Issued in Washington, DC, on July 2, 2020.
Scott M. Rosenbloom,
Acting Manager, Rules and Regulations Group.

[FR Doc. 2020-14475 Filed 7-8-20; 8:45 am]

BILLING CODE 4910-13-P